NUCLEAR REGULATORY COMMISSION

Advisory Committee on Nuclear Waste; Notice of Meeting

The Advisory Committee on Nuclear Waste (ACNW) will hold its 135th meeting on June 18-20, 2002, at 11545 Rockville Pike, Rockville, Maryland, Room T-2B3.

The entire meeting will be open to public attendance.

The schedule for this meeting is as follows:

Tuesday, June 18, 2002

A. 12:30-12:40 p.m.: Opening Statement (Open)—The Chairman will open the meeting with brief opening remarks, outline the topics to be discussed, and indicate several items of interest.

B. 12:40-3:30 p.m.: Igneous Activity Considerations at the Proposed High Level-Waste Repository at Yucca Mountain (Open)—The Committee will hear presentations by several Nuclear Waste Technical Review Board (NWTRB) consultants on their perception on igneous activity efforts by both DOE and NRC.

C. 3:45-5:15 p.m.: NRC's Package Performance Study (Open)—The Committee will hear an update by representatives of the Spent Fuel Project Office and Sandia National Laboratories on the current and future transportation safety studies and potential confirmatory testing.

D. 5:15-6:00 p.m.: Preparation of ACNW Reports (Open)—The Committee will discuss proposed reports on the following topics:

• High-Level Waste Risk Insights Initiative

• Final Research Plan on Radionuclide Transport in the Environment

Wednesday, June 19, 2002

E. 8:30-8:35 a.m.: Opening Statement (Open)—The ACNW Chairman will make opening remarks regarding the conduct of the meeting.

F. 8:35-10:00 a.m.: Entombment Option for Decommissioning Power Reactors (Open)—The Committee will hear from the NRC staff on comments received on the Rulemaking Plan and Advance Notice of Proposed Rulemaking: Entombment Options for Power Reactors.

G. 10:15-1:00 p.m.: Long-Term Behavior of Waste Packages (Open)—The Committee will hear presentations from the NRC and CNWRA staff on issues and activities related to the projected performance of waste packages in the proposed high-level waste repository at Yucca Mountain, NV. This will include presentations on risk insights from performance assessment analyses, and presentations on work related to confirming performance and understanding potential failure mechanisms such as from corrosion.

H. 2:00-3:00 p.m.: Yucca Mountain Review Plan, Revision 2 (Open)—The Committee will discuss the elements of a letter report on the Yucca Mountain Review Plan, Revision 2.

I. 3:15-6:00 p.m.: Preparation of ACNW Reports (Open)—The Committee will discuss proposed reports on the following topics:

• ACNW Action Plan for FY 2002 and FY 2003

• Entombment Option for Decommissioning Power Reactors

• Long-Term Behavior of Waste Packages

• Igneous Activity Considerations

• NRC's Package Performance Study

• High-Level Waste Risk Insights Initiative

• Final Research Plan on Radionuclide Transport in the Environment

• High-Level Waste Performance Assessment Sensitivity Studies

Thursday, June 20, 2002

J. 8:30-8:35 a.m.: Opening Statement (Open)—The ACNW Chairman will make opening remarks regarding the conduct of the meeting.

K. 8:35-8:45 a.m.: Election of ACNW Officers (Open)—Members will nominate and elect members to the positions of Chairman and Vice Chairman for the period July 1, 2002 through June 30, 2003.

L. 8:45-2:45 p.m.: Preparation of ACNW Reports (Open)—The Committee will continue its discussion of proposed ACNW reports noted in item I.

M. 2:45-3:00 p.m.: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 8 a.m. and 4 p.m. EDT, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the Internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT, at least 10 days before the meeting to ensure the availability of this service. Individuals or organizations requesting this service will be responsible for telephone line charges and for providing the equipment and facilities that they use to establish the videoteleconferencing link. The availability of videoteleconferencing services is not guaranteed.

Dated: May 23, 2002.
Andrew L. Bates,
Advisory Committee Management Officer.

[FR Doc. 02-13336 Filed 5-28-02; 8:45 am]

BILLING CODE 7590-01-P